DEPARTMENT OF COMMERCE

National Oceanic and Atmospheric Administration

[I.D. 101001A]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Law Enforcement Advisory Panel (LEAP).

DATES: This meeting will be held on Wednesday October 31, 2001, from 8:30 a.m. to 12 noon.

ADDRESSES: This meeting will be held at The W Hotel, 333 Poydras Street, New Orleans, LA 70130; telephone: 504-525-9444.

Council address: Gulf of Mexico Fishery Management Council, 3018 U.S. Highway 301 North, Suite 1000, Tampa, FL 33619.

FOR FURTHER INFORMATION CONTACT: Richard Leard, Senior Fishery Biologist, Gulf of Mexico Fishery Management Council; telephone: 813-228-2815.

SUPPLEMENTARY INFORMATION: The LEAP will convene to discuss Draft Amendment 18 to the Reef Fish Fishery Management Plan (FMP) that contains various and numerous alternatives for the management of groupers; an Options Paper for Amendment 13 to the Shrimp FMP that contains alternatives to add rock shrimp to the Shrimp FMP, set maximum sustainable yield (MSY) and optimum yield (OY) levels, as well as definitions of overfishing and overfished for each shrimp stock; and consider bycatch quotas for red snapper. The LEAP will also review of status of cobia and possible management needs and receive an update on the state’s joint enforcement agreements.

The LEAP will also receive status reports of various FMPs, amendments, and regulatory actions as well as state and federal enforcement reports. A progress report on the implementation of the 2001 Operations Plan will also be presented, and the LEAP will consider adoption of a Cooperative Law Enforcement Operations Plan for 2002 that was developed by the LEAP and the Gulf States Marine Fisheries Commission’s (GSMFC) Law Enforcement Committee (LEC).

The LEAP consists of principal law enforcement officers in each of the Gulf states as well as the NMFS, the U.S. Coast Guard, and NOAA General Counsel. A copy of the agenda and related materials can be obtained by calling the Council office at 813-228-2815.

Although other non-emergency issues not on the agendas may come before the LEAP for discussion, in accordance with the Magnuson-Stevens Fishery Conservation and Management Act, those issues may not be the subject of formal action during this meetings. Actions of the LEAP will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford at the Council (see ADDRESSES) by October 24, 2001.

Dated: October 11, 2001.
Richard W. Surdi,
Acting Director, Office of Sustainable Fisheries, National Marine Fisheries Service.

[FR Doc. 01-25977 Filed 10-15-01; 8:45 am]

BILLING CODE 3510-22-S